ENVIRONMENTAL PROTECTION AGENCY

40 CFR Part 180

[EPA-HQ-OPP-2006- 0175; FRL-8129-2]

Pesticides; Food Packaging treated with a Pesticide; Reopening of Comment Period

AGENCY: Environmental Protection Agency (EPA).

ACTION: Proposed Rulemaking; reopening of the public comment period.

SUMMARY: EPA is reopening the public comment period for a proposed rule concerning pesticide-treated food packaging published in the Federal Register of April 6, 2007. Written comments were required to be submitted by April 21, 2007. EPA is reopening the comment period because the Agency received, considered and accepted a petition to extend the public comment period. This document reopens the comment period for an additional 30 days.

DATES: Comments must be received on or before July 6, 2007.

ADDRESSES: Follow the detailed instructions provided under ADDRESSES in the proposed rule published in the Federal Register of April 6, 2007.

FOR FURTHER INFORMATION CONTACT: Mari L. Duggard, Biopesticides and Pollution Prevention Division (7511P), Office of Pesticide Programs, Environmental Protection Agency, 1200 Pennsylvania Ave., NW., Washington, DC 20460-0001; telephone number: (703) 308-0028; fax number: (703) 308-7026; e-mail address:duggard.mari@epa.gov.

SUPPLEMENTARY INFORMATION:

I. General Information

A. Does this Action Apply to Me?

The Agency identified in the proposed rule those who may be potentially affected by that action. If you have questions regarding the applicability of this action to a particular entity, consult the person listed under FOR FURTHER INFORMATION CONTACT.

B. How and to Whom Do I Submit Comments?

To submit comments, or access the public docket, follow the detailed instructions provided in Unit I.B. of the SUPPLEMENTARY INFORMATION of the April 6, 2007 proposed rule.

II. What Action is EPA Taking?

This document reopens the comment period established in a proposed rule published in the Federal Register of April 6, 2007 (72 FR 17068) (FRL-8119-8). In that document, pursuant to FFDCA section 201(q)(3), EPA proposed to amend the current exception at 40 CFR §180.4 such that inert ingredients of food packaging (paper and paperboard, coatings, adhesives and polymers) are excepted from the definition of “pesticide chemical” or “pesticide chemical residue”, when the food packaging has been treated with a pesticide. EPA is reopening the comment period for 30 days. The new comment period ends on July 6, 2007.

III. What is the Agency's Authority for Taking this Action?

Section 201(q)(3) of FFDCA, as amended by the Food Quality Protection Act (FQPA), allows the Administrator, under specified conditions, to except by regulation certain substances from the definition of “pesticide chemical” or “pesticide chemical residue” if-

(A) Its occurrence as a residue on or in a raw agricultural commodity or processed food is attributable primarily to natural causes or human activities not involving the use of any substance for a pesticidal purpose in the production, storage, processing, or transportation of any raw agricultural commodity or processed food; and

(B) The Administrator, after consultation with the Secretary, determines that the substance more appropriately should be regulated under one or more provisions of this Act other than sections 402(a)(2)(B) and 408.

List of Subjects in 40 CFR Part 180

Environmental protection, Administrative practice and procedure, Agricultural commodities, Pesticides and pests, Reporting and record-keeping requirements.

Dated: May 21, 2007.
Janet L. Andersen,
Director, Biopesticides and Pollution Prevention Division, Office of Pesticide Programs

[FR Doc. E7-10693 Filed 6-5-07; 8:45 am]

BILLING CODE 6560-50-S